DEPARTMENT OF THE INTERIOR

National Park Service

[NPS-WASO-NAGPRA-15257; PPWOCRADN0-PCU00RP14.R50000]

Notice of Intent To Repatriate Cultural Items: Tennessee Valley Authority, Knoxville, TN

AGENCY: National Park Service, Interior.

ACTION: Notice.

SUMMARY: The Tennessee Valley Authority (TVA), in consultation with the appropriate Federally recognized Indian tribes has determined that the cultural item listed in this notice meets the definition of an unassociated funerary object. Lineal descendants or representatives of any Federally recognized Indian tribe not identified in this notice that wish to claim this cultural item should submit a written request to the TVA. If no additional claimants come forward, transfer of control of the cultural item to the Federally recognized Indian tribe stated in this notice may proceed.

DATES: Lineal descendants or representatives of any Federally recognized Indian tribe not identified in this notice that wish to claim these cultural items should submit a written request with information in support of the claim to TVA at the address in this notice by April 30, 2014.

ADDRESSES: Dr. Thomas O. Maher, TVA, 400 West Summit Hill Drive, WT11D, Knoxville, TN 37902-1401, telephone (865) 632-7458, email tomaher@tva.gov.

SUPPLEMENTARY INFORMATION: Notice is here given in accordance with the Native American Graves Protection and Repatriation Act (NAGPRA), 25 U.S.C. 3005, of the intent to repatriate a cultural item under the control of TVA that meets the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

From April 27, 1938, to November 10, 1939, 1 cultural item was removed from the Cox site (1JA176), in Jackson County, AL. The Cox site was excavated as part of TVA's Guntersville reservoir project by the Alabama Museum of Natural History (AMNH) at the University of Alabama, using labor and funds provided by the Works Progress Administration. Excavation of the land commenced after TVA had acquired this land for the Guntersville project. The excavation site was composed of a conical mound believed to have originally been a truncated pyramid, with multiple stratigraphic zones and also a village site containing most of the burial units. This site was occupied during the Crow Creek phase (ca. A.D. 1400-1600). Details regarding this site may be found in An Archaeological Survey of Guntersville Basin on the Tennessee River in Northern Alabama by William S. Webb and Charles G. Wilder. The unassociated funerary object excavated from the Cox site is 1 shell-tempered ceramic pot, and it has always been in the physical custody of the AMNH at the University of Alabama.

This unassociated funerary object was recovered from one burial feature. The human remains from this burial feature were either not collected during excavation or have been misplaced in the last 74 years. This ceramic pot is shell-tempered and the exterior has multiple nodes. This unassociated funerary object is similar to others in use at the end of the Mississippian period.

Although there is no scientific certainty that Native Americans of the Crow Creek phase are directly related to modern Federally recognized tribes, Spanish explorers of the 16th centuries do indicate the presence of chiefdom level tribal entities in the southeastern United States. The Coosa paramount chiefdom noted in historical chronicles is the most likely entity related to Crow Creek sites in this part of the Guntersville Reservoir. Tribal groups or towns now part of The Muscogee (Creek) Nation claim descent from the Coosa chiefdom. The preponderance of the evidence indicates that in this part of the Guntersville Reservoir area, Crow Creek phase sites are most likely culturally associated with groups now part of the Muscogee (Creek) Nation.

Determinations Made by the Tennessee Valley Authority

Officials of TVA have determined that:

• Pursuant to 25 U.S.C. 3001(3)(B), the 1 cultural item described in this notice is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary object and The Muscogee (Creek) Nation.

Additional Requestors and Disposition

Lineal descendants or representatives of any Federally recognized Indian tribe not identified in this notice that wish to claim these cultural items should submit a written request with information in support of the claim to Dr. Thomas O. Maher, TVA, 400 West Summit Hill Drive, WT11D, Knoxville, TN 37902-1401, telephone (865) 632-7458, email tomaher@tva.gov, by April 30, 2014. After that date, if no additional claimants have come forward, transfer of control of the unassociated funerary object to The Muscogee (Creek) Nation may proceed.

TVA is responsible for notifying the University of Alabama and the Absentee-Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Seminole Tribe of Florida (previously listed as the Seminole Tribe of Florida (Dania, Big Cypress, Brighton, Hollywood & Tampa Reservations)); Shawnee Tribe; The Chickasaw Nation; The Muscogee (Creek) Nation; The Seminole Nation of Oklahoma; Thlopthlocco Tribal Town; and the United Keetoowah Band of Cherokee Indians in Oklahoma, that this notice has been published.

Dated: March 11, 2014.
Sherry Hutt,
Manager, National NAGPRA Program.

[FR Doc. 2014-07150 Filed 3-28-14; 8:45 am]

BILLING CODE 4312-50-P